DEPARTMENT OF TRANSPORTATION

Pipeline and Hazardous Materials Safety Administration

[Docket No. PHMSA-2015-0004]

Pipeline Safety: Information Collection Activities

AGENCY: Pipeline and Hazardous Materials Safety Administration (PHMSA), DOT.

ACTION: Notice and request for comments.

SUMMARY: In accordance with the Paperwork Reduction Act of 1995, PHMSA invites comments on an information collection identified under Office of Management and Budget (OMB) Control No. 2137-0047, titled “Transportation of Hazardous Liquids by Pipeline: Recordkeeping and Accident Reporting.” PHMSA is preparing to request a three year renewal extension for this information collection that includes a minor revision to the instructions for the form, PHMSA F 7000-1 ACCIDENT REPORT—HAZARDOUS LIQUID PIPELINE SYSTEMS.

DATES: Interested persons are invited to submit comments on or before April 6, 2015.

ADDRESSES: Comments may be submitted in the following ways:

E-Gov Web site: http://www.regulations.gov. This site allows the public to enter comments on any Federal Register notice issued by any agency.

Fax: 1-202-493-2251.

Mail: Docket Management Facility; U.S. Department of Transportation (DOT), 1200 New Jersey Avenue SE., West Building, Room W12-140, Washington, DC 20590-0001.

Hand Delivery: Room W12-140 on the ground level of the West Building, 1200 New Jersey Avenue SE., Washington, DC, between 9:00 a.m. and 5:00 p.m., Monday through Friday, except Federal holidays.

Instructions: When you submit a comment on this notice to the docket, identify the docket number, PHMSA-2015-0004 at the beginning of your comments.

Docket: For access to the docket or to read background documents or comments, go to http://www.regulations.gov at any time or to Room W12-140 on the ground level of the West Building, 1200 New Jersey Avenue SE, Washington, DC, between 9:00 a.m. and 5:00 p.m., Monday through Friday, except Federal holidays. If you wish to receive confirmation of receipt of your written comments, please include a self-addressed, stamped postcard with the following statement: “Comments on PHMSA-2015-0004.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

Privacy Act Statement: In accordance with the Paperwork Reduction Act of 1995, PHMSA solicits comments from the public to better inform its information collection process. PHMSA posts these comments, without edit, including any personal information the commenter provides, to www.regulations.gov, as described in the system of records notice (DOT/ALL-14 FDMS), which can be reviewed at www.dot.gov/privacy.

FOR FURTHER INFORMATION CONTACT: Cameron Satterthwaite by telephone at 202-366-1319, by email at cameron.satterthwaite@dot.gov, by fax at 202-366-4566, or by mail at DOT, PHMSA, 1200 New Jersey Avenue SE, PHP-30, Washington, DC 20590-0001.

SUPPLEMENTARY INFORMATION:

A. Background

Section 1320.8(d), Title 5, Code of Federal Regulations, requires PHMSA to provide interested members of the public and affected agencies an opportunity to comment on information collection and recordkeeping requests. This notice identifies an information collection request that PHMSA will be submitting to OMB for minor revision and extension approval. The information collection expires July 31, 2015, and is identified under OMB Control No. 2137-0047, titled: “Transportation of Hazardous Liquids by Pipeline: Recordkeeping and Accident Reporting.” This information collection address general recordkeeping and and accident reporting requirements for hazardous liquid pipeline operators under 49 CFR part 195.

B. Hazardous Liquid Accident Report Instructions

PHMSA intends to revise only the instructions for the form PHMSA F 7000-1 ACCIDENT REPORT—HAZARDOUS LIQUID PIPELINE SYSTEMS (Hazardous Liquid Accident Report, report) to clarify two areas addressed under the “Part A General Report Information” area of the instructions. Background for these topics is as follows:

Part A, Question 9,”volume of commodity released unintentionally” clarification:

The instructions for Part A, Question 9 detail how to report the amount of material unintentionally released from the pipeline as a result of the accident. PHMSA is proposing to simplify the instructions relating to the removal of material from the pipeline and clarify the reporting of product consumed by fire.

One of the proposed revisions simplifies the instructions by removing discussion of product removed from the pipeline system at locations remote from the failure site. During accident response, pipeline operators often remove product at locations remote from the failure site. These controlled product movements are from within the pipeline system and irrelevant to the category. The “volume of commodity released unintentionally” only applies to the product released from the pipeline system at the failure site.

PHMSA also proposes to revise the instructions for including product consumed by fire in the spill volume. PHMSA proposes to revise this provision to specify that the product consumed by fire inside a tank should not be included in the category of “volume released unintentionally.” If product is consumed under any other circumstances, the volume consumed by fire is included in volume released.

PHMSA is proposing these revisions to ensure that volumes appropriate for analysis of safety performance trends are reported by pipeline operators. These proposed revisions to the instructions will not increase the hourly burden estimate for this information collection.

Part A, Question 11, “volume of commodity recovered” clarification:

The instructions for Part A, Question 11 detail how to report the amount of product recovered after the accident. PHMSA is proposing to simplify the instructions relating to the recovery of product by removing the discussion of product removed from the pipeline system at locations remote from the failure site. These controlled product movements are from within the pipeline system and irrelevant to the “volume of commodity recovered” category for the same reasons given in the above discussion on Question 9. This proposed revision to the instructions will not increase the hourly burden estimate for this information collection.

C. General Information

In addition to the Hazardous Liquid Accident Reporting form, this information collection renewal applies to many existing general recordkeeping requirements in 49 CFR part 195 that remain unchanged. Part 195 applies to the safe operation of hazardous liquid pipelines. Some of the general recordkeeping requirements covered are specified in § 195.404 and include maps and locations of the operators pipeline facilities, certain crossings (i.e., public roads, railroads, rivers, etc.), maximum allowable operating pressure of the pipeline, repairs and inspections. This information collection also includes the estimated burden for operators that install new computational pipeline monitoring leak detection systems as required to comply with the American Petroleum Institute's recommended practice API 1130 “Computational Pipeline Monitoring for Liquid Pipelines” (API 1130). PHMSA is not proposing any revisions to these areas of the information collection.

D. Summary of Impacted Collection

The following information is provided for this information collection: (1) Title of the information collection; (2) OMB control number; (3) Type of request; (4) Abstract of the information collection activity; (5) Description of affected public; (6) Estimate of total annual reporting and recordkeeping burden; and (7) Frequency of collection. PHMSA will request a three-year term of approval for this information collection activity. PHMSA requests comments on the following information collection:

Title: Transportation of Hazardous Liquids by Pipeline: Recordkeeping and Accident Reporting.

OMB Control Number: 2137-0047.

Current Expiration Date: 7/31/2015.

Type of Request: Revision.

Abstract: This information collection covers recordkeeping and accident reporting by hazardous liquid pipeline operators who are subject to 49 CFR part 195. Section 195.50 specifies the definition of an “accident” and the reporting criteria for submitting a Hazardous Liquid Accident Report (form PHMSA F7000-1) is detailed in § 195.54. PHMSA is proposing to revise the form PHMSA F7000-1 instructions for editorial and clarification purposes.

Affected Public: Hazardous liquid pipeline operators.

Annual Reporting and Recordkeeping Burden:

Annual Responses: 897.

Annual Burden Hours: 52,429.

Frequency of collection: On Occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC on January 30, 2015.
Alan K. Mayberry,
Deputy Associate Administrator for Policy and Programs.

[FR Doc. 2015-02148 Filed 2-3-15; 8:45 am]

BILLING CODE 4910-60-P